DEPARTMENT OF THE TREASURY

Internal Revenue Service

26 CFR Part 1

[TD 9335]

RIN 1545-BG19

Disclosure Requirements With Respect to Prohibited Tax Shelter Transactions; Correction

AGENCY: Internal Revenue Service (IRS), Treasury.

ACTION: Correction to temporary regulations.

SUMMARY: This document contains correction to temporary regulations (TD 9335) that were published in the Federal Register on Friday, July 6, 2007 (72 FR 36869) under section 6033(a)(2) of the Internal Revenue Code that provide rules regarding the form, manner and timing of disclosure obligations with respect to prohibited tax shelter transactions to which tax-exempt entities are parties.

DATES: The correction is effective August 16, 2007.

FOR FURTHER INFORMATION CONTACT: Galina Kolomietz, (202) 622-6070, or Michael Blumenfeld, (202) 622-1124 (not toll-free numbers). For questions specifically relating to qualified pension plans, individual retirement accounts, and similar tax-favored savings arrangements, contact Dana Barry, (202) 622-6060 (not a toll-free number).

SUPPLEMENTARY INFORMATION:

Background

The temporary regulations that are the subject of this correction are under section 6033 of the Internal Revenue Code.

Need for Correction

As published, temporary regulations (TD 9335) contain an error that may prove to be misleading and is in need of clarification.

Correction of Publication

Accordingly, the publication of the temporary regulations (TD 9335), which was the subject of FR Doc. E7-12903, is corrected as follows:

On page 36870, column 1, first paragraph of the column, in the preamble, under the paragraph heading “Background”, last line of the paragraph, the language “4965 tax. See § 601.601(d)(2)(ii)(b).” is corrected to read “4965 tax. See § 601.601(d)(2)(ii)(b) of this chapter.”

LaNita Van Dyke,
Chief, Publications and Regulations Branch, Legal Processing Division, Associate Chief Counsel (Procedure and Administration).

[FR Doc. E7-16081 Filed 8-15-07; 8:45 am]

BILLING CODE 4830-01-P